DEPARTMENT OF COMMERCE

Internal Trade Administration

Initiation of Antidumping and Countervailing Duty Administrative Reviews

Correction

In Notice document 2021-19190, appearing on pages 50034-50047, in the issue of Tuesday, September 7, 2021, make the following correction:

On page 50043, the text for footnotes 5 and 6 was omitted and should read as set forth below:

⁵ On 07/06/2021, Commerce published a correction notice to the opportunity to request an administrative review for chloropicrin from the People's Republic of China for the period 03/01/2020 through 09/21/2020 (A-570-002). See 86 FR 35474. In that notice, Commerce notified parties that they may request an administrative review not later than 30 days after the date of publication of this correction notice. Commerce did not receive any requests for an administrative review.

⁶ This company is also known as Jindal Poly Films Limited of India, Jindal Films India Limited; and Jindal Poly Films Ltd. (India).

[FR Doc. C1-2021-19190 Filed 10-5-21; 8:45 am]

BILLING CODE 0099-10-D